DEPARTMENT OF AGRICULTURE

Rural Business-Cooperative Service

[Docket #: RBS-23-BUSINESS-0020]

Notice of Solicitation of Applications for the Rural Business Development Grant Programs for Fiscal Year 2024

AGENCY: Rural Business-Cooperative Service, USDA.

ACTION: Notice.

SUMMARY: The Rural Business-Cooperative Service (RBCS or the Agency) invites the submission of applications for grants under the Rural Business Development Grant (RBDG) Program for fiscal year (FY) 2024, subject to the availability of funding. This notice is being issued prior to passage of a FY 2024 Appropriations Act in order to allow applicants sufficient time to leverage financing, prepare and submit their applications, and give the Agency time to process applications within FY 2024. Based on FY 2023 appropriated funding, the Agency estimates that approximately $37,000,000 will be available for FY 2024. Successful applications will be selected by the Agency for funding and subsequently awarded to the extent that funding may ultimately be made available through appropriations. All applicants are responsible for any expenses incurred in developing their applications.

DATES: Complete applications may be submitted in paper or electronic format and must be received by 4:30 p.m. local time on February 28, 2024, in the United States Department of Agriculture (USDA) Rural Development (RD) State Office for the State where the project is located. A list of the USDA RD State Offices can be found at: https://www.rd.usda.gov/about-rd/state-offices.

ADDRESSES: This funding announcement will also be announced on www.Grants.gov. Applications must be submitted to the USDA RD State Office for the State where the project is located. For projects involving multiple states, the application must be filed in the RD State Office where the Applicant is located. Applicants are encouraged to contact their respective RD State Office for an email contact to submit an electronic application prior to the submission deadline date. A list of the USDA RD State Office contacts can be found at: https://www.rd.usda.gov/about-rd/state-offices.

FOR FURTHER INFORMATION CONTACT: Lisa Sharp at lisa.sharp@usda.gov, or Cindy Mason at cindy.mason@usda.gov, Program Management Division, Rural Business-Cooperative Service, USDA, 1400 Independence Avenue SW, MS 3226, Room 5160—South, Washington, DC 20250-3226, or call (202) 720-1400. For further information on submitting program applications under this notice, please contact the USDA RD State Office in the State where the applicant's headquarters is located. A list of RD State Office contacts is provided at the following link: https://www.rd.usda.gov/about-rd/state-offices.

SUPPLEMENTARY INFORMATION:

Overview

Federal Agency Name: Rural Business-Cooperative Service (RBCS).

Funding Opportunity Title: Rural Business Development Grant Program (RBDG).

Announcement Type: Notice of Solicitation Announcement (NOSA).

Funding Opportunity Number: RDBCP-RBDG-2024.

Assistance Listing: 10.351.

Dates: Complete applications may be submitted in paper or electronic format and must be received by 4:30 p.m. local time on February 28, 2024, in the United States Department of Agriculture (USDA) Rural Development (RD) State Office for the State where the project is located. A list of the USDA RD State Offices can be found at: https://www.rd.usda.gov/about-rd/state-offices.

Rural Development Key Priorities: The Agency encourages applicants to consider projects that will advance the following key priorities (more details available at https://www.rd.usda.gov/priority-points):

• Assisting rural communities to recover economically through more and better market opportunities and through improved infrastructure.

• Ensuring all rural residents have equitable access to RD programs and benefits from RD funded projects.

• Reducing climate pollution and increasing resilience to the impacts of climate change through economic support to rural communities.

A. Program Description

1. Purpose of the Program. The purpose of the program is to promote economic development and job creation projects through the awarding of grant funds to eligible entities. Applications will compete in two separate categories, business opportunity grants and business enterprise grants, for use in funding various business and community projects that serve rural areas.

Business opportunity projects must be in compliance with eligible uses as stated in 7 CFR 4280.417(a)(1) that include the establishment of business support centers or providing funds for job training and leadership development in rural areas. Business opportunity projects must be consistent with any tribal, local and area-wide strategic plans for community and economic development, coordinated with other economic development activities in the project area, and consistent with any RD State Strategic Plan.

Business enterprise projects must be in compliance with eligible uses as stated in 7 CFR 4280.417(a)(2) and are to be used to finance or develop small and emerging businesses in rural areas. Enterprise grant purposes include projects for the acquisition and development of land, access streets and roads, the conversion or modernization of buildings, capitalization of revolving loan funds and the purchase of machinery and equipment for businesses located in a rural area.

2. Statutory and Regulatory Authority.

(a) RBDG Program: The RBDG Program is authorized under 7 U.S.C. 1932(c) (https://www.govinfo.gov/link/uscode/7/1932) and implemented by 7 CFR part 4280, subpart E (https://www.ecfr.gov/current/title-7/part-4280/subpart-E). Assistance provided under the RBDG Program will be made to eligible entities and will be used for funding various business opportunity projects and business enterprise projects, as applicable, that serve Rural Areas.

(b) Set-Aside Funding: The Consolidated Appropriations Act, 2023 (Pub. L. 117-328), designated funding for Federally-Recognized Native American Tribes, Rural Empowerment Zone/Enterprise Communities/Rural Economic Area Partnerships, projects in Persistent Poverty Counties (as discussed below), Native American Persistent Poverty areas and for Strategic Economic and Community Development (SECD) projects in FY 2023.

Set-aside funding may or may not be made available through appropriations in FY 2024 where continued emphasis is given to financial assistance for projects located in these areas. For funding made available in FY 2023, eligible applicants for the Native American and Rural Empowerment Zone/Enterprise Communities/Rural Economic Area Partnership set-aside funds were required to demonstrate that at least 75 percent of the benefits of an approved grant would assist beneficiaries in the designated areas. For funding made available in FY 2023, eligible applicants for the Persistent Poverty Counties, Native American Persistent Poverty areas, and the SECD set-aside funds were required to demonstrate that 100 percent of the benefits of an approved grant would assist beneficiaries in the designated areas. The completed application deadline for these set-aside funds, if available, is consistent with the RBDG application deadline date of February 28, 2024. Applicants for set-aside funds must indicate that they are applying for set-aside funds and may not submit a duplicate application for regular RBDG funds. If funding for an anticipated set-aside program is not appropriated in FY 2024, or if any eligible applications for set-aside funding are not funded due to insufficient funds, such applications will be allowed to compete for available FY 2024 regular RBDG funds in the State where the project is located.

(c) Persistent Poverty Funding: The Consolidated Appropriations Act, 2023 (Pub. L. 117-328) provided designated funding for projects in Persistent Poverty Counties. “Persistent Poverty Counties” as defined in Section 736 is “any county that has had 20 percent or more of its population living in poverty over the past 30 years, as measured by the 1990 and 2000 decennial censuses, and 2007-2011 American Community Survey 5-year average, or any territory or possession of the United States”. Another provision in Section 736 expanded the eligible population in Persistent Poverty Counties to include any county seat of such a Persistent Poverty County that had a population that did not exceed the authorized population limit by more than 10 percent. This provision expanded the current 50,000 population limit to 55,000 for only county seats located in Persistent Poverty Counties. Therefore, beneficiaries of technical assistance services located in county seats of Persistent Poverty Counties with populations up to 55,000 (per the 2020 Census) were deemed eligible. Comparable statutory provisions may or may not be included in the appropriations act for FY 2024.

3. Definitions. The definitions applicable to this notice are published at 7 CFR 4280.403 (eCFR :: 7 CFR 4280.403—Definitions.).

4. Application of Awards. Awards under the RBDG Program will be made on a competitive basis using specific selection criteria contained in 7 CFR part 4280, subpart E (https://www.ecfr.gov/current/title-7/part-4280/subpart-E). The Agency will review, evaluate, and score applications received in response to this notice based on the provisions found in 7 CFR part 4280, subpart E (https://www.ecfr.gov/current/title-7/part-4280/subpart-E), and as indicated in this notice. The Agency advises all interested parties that the applicant bears the full burden of preparing and submitting an application in response to this notice whether or not funding is appropriated for this program in FY 2024.

B. Federal Award Information

Type of Awards: Grants.

Fiscal Year Funds: FY 2024.

Available Funds: Dependent upon FY 2024 appropriations. Funding is anticipated to be approximately $37 million based on FY 2023 amounts. RBCS may at its discretion, increase the total level of funding available in this funding round [or in any category in this funding round] from any available source provided the awards meet the requirements of the statute which made the funding available to the Agency.

Award Amounts: No Minimum or Maximum.

Anticipated Award Dates: Set-Aside awards, if applicable: May 31, 2024. Regular awards: August 31, 2024.

Performance Period: June 1, 2024, through September 30, 2026.

Renewal or Supplemental Awards: None.

Type of Financial Assistance Instrument: Grant Agreement.

C. Eligibility Information

1. Eligible Applicants. Grants may be made to a Public Body/Government Entity, an Indian Tribe, or a Nonprofit entity primarily serving rural areas. In accordance with 7 CFR 4280.416(d) (https://www.ecfr.gov/current/title-7/section-4280.416#p-4280.416(d)), applicants that are not delinquent on any Federal debt or not otherwise disqualified from participation in these Programs are eligible to apply. The Agency will check the System for Award Management (SAM) to determine if the applicant has been debarred or suspended at the time of application and prior to the awarding of grant funds.

2. Cost Sharing or Matching. There are no cost sharing or matching requirements associated with this grant. Matching funds are not required for eligibility purposes, however, additional priority points may be awarded for leveraging per 7 CFR 4280.435 (a).

3. Other. Grant funds may be used for projects identified in 7 CFR 4280.417(a) (eCFR: 7 CFR 4280.417—Project eligibility.) as either a business opportunity type grant or a business enterprise type grant.

D. Application and Submission Information

1. Address to Request Application Package. Entities wishing to apply for financial assistance should contact the USDA RD State Office provided in the ADDRESSES section of this notice to obtain copies of the application package.

2. Content and Form of Application Submission.

(a) The applicant documentation and forms needed for a complete application are located in 7 CFR part 4280, subpart E (https://www.ecfr.gov/current/title-7/part-4280/subpart-E), a copy of which will be provided to any interested applicant making a request to a USDA RD State Office for the State where the project is located. A list of the USDA RD State Offices can be found at: https://www.rd.usda.gov/about-rd/state-offices.

(b) The Agency requires information to make an eligibility determination through applications that must include the items identified in 7 CFR 4280.427 (https://www.ecfr.gov/current/title-7/section-4280.427). The written narrative outlined in 7 CFR 4280.427(d) should include the following for Other Information:

(1) Please note that no assistance or funding can be provided to hemp producers or processors unless they have a valid license issued from an approved State, Tribal or Federal plan as per section 10113 of the Agriculture Improvement Act of 2018, Public Law 115-334 (https://www.govinfo.gov/app/details/PLAW-115publ334). Verification of valid hemp licenses will occur at the time of award; and

(2) Other information the Agency may request to assist in making a grant award determination.

Each selection priority criterion outlined in 7 CFR 4280.427 (https://www.ecfr.gov/current/title-7/section-4280.427) must be addressed in the application. Failure to address any of the criterion will result in a zero-point score for that criterion and will impact the overall evaluation of the application.

(c) The application must be submitted in one package. The single package should be well organized and include a table of contents, if appropriate. There are no specific limitations on number of pages, font size and type face, margins, paper size, and the sequence or assembly requirements other than those described in 7 CFR part 4280, subpart E (https://www.ecfr.gov/current/title-7/part-4280/subpart-E).

(d) An original copy of the application must be filed with the RD State Office for the State where the project is located. For projects involving multiple states, the application must be filed in the RD State Office where the Applicant is located.

(e) The component pieces of this application require original signatures on the original application. Any form that requires an original signature but is signed electronically in the application submission must be signed in ink by the authorized person prior to the disbursement of funds.

(f) RBDG grants must conform with the environmental policies and procedures of 7 CFR part 1970 (eCFR :: 7 CFR part 1970—Environmental Policies and Procedures).

3. System for Award Management and Unique Entity Identifier.

(a) At the time of application, each applicant must have an active registration in SAM before submitting its application in accordance with 2 CFR part 25 (https://www.ecfr.gov/current/title-2/subtitle-A/chapter-I/part-25). In order to register in SAM, entities will be required to obtain a Unique Entity Identifier (UEI). Instructions for obtaining the UEI are available at https://sam.gov/content/entity-registration.

(b) Applicants must maintain an active SAM registration, with current, accurate and complete information, at all times during which it has an active Federal award or an application under consideration by a Federal awarding agency.

(c) Applicants must ensure they complete the Financial Assistance General Certifications and Representations in SAM.

(d) Applicants must provide a valid UEI in its application, unless determined exempt under 2 CFR 25.110 (https://www.ecfr.gov/current/title-2/subtitle-A/chapter-I/part-25/subpart-A/section-25.110).

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times.

(a) Application Technical Assistance Deadline Date. Prior to official submission of grant applications, applicants may request technical assistance or other application guidance from the Agency, as long as such requests are made prior to February 10, 2024. Technical assistance is not meant to be an analysis or assessment of the quality of the materials submitted, a substitute for agency review of completed applications, nor a determination of eligibility.

(b) Application Deadline Date. Applications (paper or electronic format) must be submitted to the appropriate RD State Office no later than 4:30 p.m. (local time) on February 28, 2024. If completed applications are not received by the deadline date, the application will neither be reviewed nor considered for funding under any circumstances. The Agency will not solicit or consider scoring or eligibility information that is submitted after the application deadline. The Agency reserves the right to contact applicants to seek clarification information on materials contained in the submitted application.

5. Intergovernmental Review. Executive Order (E.O.) 12372, “Intergovernmental Review of Federal Programs,” applies to this program. This E.O. requires that Federal agencies provide opportunities for consultation on proposed assistance with State and local governments. Many states have established a Single Point of Contact (SPOC) to facilitate this consultation. For a list of States that maintain a SPOC, please see the White House website: https://www.whitehouse.gov/omb/management/office-federal-financial-management/. If your State has a SPOC, you may submit a copy of the application directly for review. Any comments obtained through the SPOC must be provided to your State Office for consideration as part of your application. If your state has not established a SPOC, you may submit your application directly to the Agency. Applications from Federally recognized Indian Tribes are not subject to this requirement.

6. Funding Restrictions.

(a) Indirect costs will be permitted in accordance with applicable law and in accordance with 2 CFR part 200 (https://www.ecfr.gov/current/title-2/part-200). Pre-Federal award costs will only be permitted with prior written approval by the Agency.

(b) In accordance with 7 CFR 4280.421 (eCFR :: 7 CFR 4280.421—Term requirement.), a project must reasonably be expected to be completed within one (1) full year after it has begun.

7. Other Submission Requirements. Applicants may submit applications in hard copy or electronic format as previously indicated in the Application and Submission Information section of this notice. If the applicant wishes to hand deliver its application, the addresses for these deliveries are located in the ADDRESSES section of this notice.

E. Application Review Information

1. Criteria.

(a) The Agency will review each application for assistance in accordance with the priorities established in 7 CFR 4280.435. The Agency will assign each application a priority rating and will select applications for funding based on the priority ratings and the total funds available to the program. Failure to address any one of the criteria by the application deadline will result in the application being determined ineligible, and the application will not be considered for funding.

(b) The Agency will use the criteria in 7 CFR 4280.435 and this notice to score applications for purposes identified under 7 CFR 4280.417(a)(1) and (2).

Leveraging. In addition to the requirements provided in 7 CFR 4280.435(a), and to the extent that an applicant contributes leveraged funds to a project, the application must contain a firm commitment in writing of other funding for the project or points will not be awarded to the application for leveraging.

Discretionary points. Either the State Director or Administrator may assign up to 50 discretionary points to an application. Assignment of discretionary points must include a written justification. Permissible justifications are geographic distribution of funds, special Secretary of Agriculture initiatives such as Priority Communities, or a state's strategic goals. Discretionary points may only be assigned to initial grants. However, in the case where two projects have the same score, the State Director may add one point to the project that best fits the State's strategic plan regardless of whether the project is an initial or subsequent grant.

(c) The following are examples of special Secretary of Agriculture initiatives that can support obtaining discretionary points.

(1) Assisting rural communities recover economically through more and better market opportunities and through improved infrastructure. Applicant would receive priority points if the project is located in or is serving a rural community whose economic well-being ranks in the most distressed tier (distress score of 80 or higher) of the Distressed Communities Index using the Distressed Communities Look-Up Map available at https://www.rd.usda.gov/priority-points.

(2) Ensuring all rural residents have equitable access to RD programs and benefits from RD funded projects. Using the Social Vulnerability Index (SVI) Look-Up Map (available at https://www.rd.usda.gov/priority-points), an applicant would receive priority points if the project is:

• Located in or serving a community with a score 0.75 or above on the SVI;

• Is a Federally recognized tribe, including Tribal instrumentalities and entities that are wholly owned by Tribes; or

• Is a project where at least 50 percent of the project beneficiaries are members of Federally Recognized Tribes and non-Tribal applicants include a Tribal Resolution of Consent from the Tribe or Tribes that the applicant is proposing to serve.

(3) Reducing climate pollution and increasing resilience to the impacts of climate change through economic support to rural communities. Using the Disadvantaged Community and Energy Community Look-Up Map (available at https://www.rd.usda.gov/priority-points), applicants can receive priority points in three ways:

• If the project is located in or serves a Disadvantaged Community as defined by the Climate and Economic Justice Screening Tool (CEJST), from the White House Council on Environmental Quality (CEQ), or

• If the project is located in or serves an Energy Community as defined by the Inflation Reduction Act (IRA).

• If applicants demonstrate through written narrative how proposed climate-impact projects improve the livelihoods of community residents and meet pollution mitigation or clean energy goals.

See the website, https://www.rd.usda.gov/priority-points, for options.

The Agency will assign each application a priority rating based on the total score and will select applications for funding based on the priority ratings and the total funds available to the program for opportunity-type projects and enterprise-type projects.

2. Review and Selection Process.

The RD State Offices will review applications to determine if they are eligible for assistance based on requirements contained in 7 CFR 4280.416 (https://www.ecfr.gov/current/title-7/section-4280.416) and 7 CFR 4280.417 (https://www.ecfr.gov/current/title-7/section-4280.417). Funding of projects is subject to the availability of funds and Applicant's satisfactory submission of the items required by 7 CFR part 4280, subpart E (https://www.ecfr.gov/current/title-7/part-4280/subpart-E) and this notice, in addition to any conditions specifically outlined in any issued USDA RD Letter of Conditions if available funds are to be awarded. The agency reserves the right to offer the applicant less than the amount of grant funding requested.

The Agency will score each application based on the information contained in the application and its supporting information. All applications submitted for funding must be in one package and contain sufficient information to permit the Agency to complete a thorough priority rating. Agency employees may not consider any information that is not provided by the applicant in writing for scoring purposes. Applications will not be considered for funding if they do not provide sufficient information to determine eligibility or are missing required elements.

Applications for set-aside funds, if available, will compete at the National Office in their respective categories. Applications for regular RBDG projects will compete at the state level in their respective category, business opportunity grants or business enterprise grants, for funding made available through RD State allocated funds. Applications will be reviewed, prioritized by score, and funded by ranking each project in highest to lowest score order until available funds are exhausted. If funds are exhausted at the state level, each State's highest scoring unfunded business enterprise project will have the opportunity to compete for funding through a final national competition.

The Agency will notify eligible applicants in writing if RBDG funds are not available. The applicant is permitted to respond in writing that they wish their application to be reconsidered in the next FY. The applicant may provide additional updated information to the Agency prior to the next FY's application deadline for their project.

The Agency will notify eligible applicants in writing if set-aside funds are not available. Applications that are eligible for set-aside funds but are unfunded due to the unavailability of funds will be allowed to compete for available FY 2024 regular RBDG funds in the State where the project is located. For projects involving multiple states, the application will be returned to the RD State Office where the Applicant is located and will compete for funds in that State. The Agency will notify eligible applicants in writing if their application will not be funded in FY 2024 due to insufficient funds in the set-aside and regular RBDG programs.

F. Federal Award Administration Information

1. Federal Award Notices.

Successful applicants will receive notification for funding from the USDA RD State Office. Applicants must comply with all applicable statutes and regulations before the grant award can be approved and funded. If an application is withdrawn by the applicant, it can be resubmitted later and will be evaluated as a new application in the period submitted.

2. Administrative and National Policy Requirements.

Additional requirements that apply to grantees selected for this Program can be found in 7 CFR part 4280, subpart E (https://www.ecfr.gov/current/title-7/part-4280/subpart-E), and in the Grants and Agreements regulations of the Department of Agriculture codified in 2 CFR parts 25, 170, 180, 200, 400, 415, 417, 418, 421. Awards are subject to USDA grant regulations at 2 CFR part 400 (https://www.ecfr.gov/current/title-2/part-400) which incorporates the Office of Management and Budget (OMB) regulations at 2 CFR part 200 (https://www.ecfr.gov/current/title-2/part-200).

All successful applicants will be notified by letter which will include a Letter of Conditions and a Letter of Intent to Meet Conditions. This letter is not an authorization to begin performance, but it is a notification that grant funds may be awarded subject to the applicant meeting certain specified conditions. The grant will be considered officially awarded when all conditions in the Letter of Conditions have been met and the Agency obligates the funding for the project. If the applicant wishes to consider beginning their project performance prior to the grant being officially closed, all pre-award costs must be approved in writing and in advance by the Agency.

Additional requirements that apply to grantees selected for these programs can be found in 7 CFR part 4280, subpart E (https://www.ecfr.gov/current/title-7/part-4280/subpart-E), the Grants and Agreements regulations of the USDA codified in 2 CFR Chapter IV (https://www.ecfr.gov/current/title-2/subtitle-B/chapter-IV), and successor regulations to these parts.

In addition, all recipients of Federal financial assistance are required to report information about first-tier sub-awards and executive compensation (see 2 CFR part 170 (https://www.ecfr.gov/current/title-2/part-170)). The applicant will be required to have the necessary processes and systems in place to comply with the Federal Funding Accountability and Transparency Act of 2006 (Pub. L. 109-282-Federal Funding Accountability and Transparency Act of 2006—Content Details—(govinfo.gov)) reporting requirements (see 2 CFR 170.200(b) (https://www.ecfr.gov/current/title-2/section-170.200#p-170.200(b)), unless the recipient is exempt under 2 CFR 170.110(b) (https://www.ecfr.gov/current/title-2/section-170.110#p-170.110(b))).

The following additional requirements apply to grantees selected for these programs:

(a) Form RD 4280-2 “Rural Business-Cooperative Service Financial Assistance Agreement.”

(b) Letter of Conditions.

(c) Form RD 1940-1, “Request for Obligation of Funds.”

(d) Form RD 1942-46, “Letter of Intent to Meet Conditions.”

(e) SF LLL, “Disclosure of Lobbying Activities,” if applicable.

(f) Grantees will use Form SF 270, “Request for Advance or Reimbursement” when requesting grant funds from the Agency.

3. Reporting.

(a) A Financial Status Report and a Project Performance Activity Report will be required of all grantees on a quarterly basis until initial funds are expended and yearly thereafter, if applicable, based on the Federal FY. Grantees must continuously monitor performance to ensure that time schedules are being met, projected work by time periods is being accomplished, and other performance objectives are being achieved. Grantees must submit an original of each report to the Agency no later than 30 days after the end of the quarter. The grantee will complete the project within the total time available to it in accordance with the Scope of Work and any necessary modifications thereof prepared by the grantee and approved by the Agency. A final Project Performance Report will be required with the final Financial Status Report. The final report may serve as the last quarterly report. The final report must provide complete information regarding the jobs created and supported as a result of the RBDG grant, if applicable. The Project Performance Reports must include, but not be limited to, the following:

(1) A comparison of actual accomplishments to the objectives established for that period.

(2) Problems, delays, or adverse conditions, if any, which have affected or will affect attainment of overall project objectives, prevent meeting time schedules or objectives, or preclude the attainment of particular project work elements during established time periods. This disclosure shall be accompanied by a statement of the action taken or planned to resolve the situation.

(3) Objectives and timetable established for the next reporting period.

(4) Any special reporting requirements, such as jobs supported and created, businesses assisted, or economic development which results in improvements in median household incomes, and any other specific requirements, will be placed in the reporting section of the Letter of Conditions.

(5) Within 90 days after the conclusion of the project, the grantee will provide a final Project Evaluation Report. The last quarterly payment will be withheld until the final report is received and approved by the Agency. Even though the grantee may request reimbursement on a monthly basis, the last 3 months of reimbursements will be withheld until the final Project Evaluation, Project Performance, and Financial Status Reports are received and approved by the Agency.

(b) In addition to any reports required by 2 CFR part 200 (https://www.ecfr.gov/current/title-2/part-200) and 2 CFR chapter IV (https://www.ecfr.gov/current/title-2/subtitle-B/chapter-IV), the grantee must provide reports as required by 7 CFR part 4280, subpart E (https://www.ecfr.gov/current/title-7/part-4280/subpart-E).

G. Federal Awarding Agency Contact(s)

For general questions about this announcement, please contact your USDA RD State Office provided in the ADDRESSES section of this notice.

H. Build America, Buy America

Funding to Non-Federal Entities. Awardees that are Non-Federal Entities, defined pursuant to 2 CFR 200.1 as any State, local government, Indian tribe, Institution of Higher Education, or nonprofit organization, shall be governed by the requirements of Section 70914 of the Build America, Buy America Act (BABAA) within the Infrastructure Investment and Jobs Act (IIJA) (Pub. L. 117-58). Any requests for waiver of these requirements must be submitted pursuant to USDA's guidance available online at https://www.usda.gov/ocfo/federal-financial-assistance-policy/USDABuyAmericaWaiver. Pursuant to USDA's “Tribal Consultation Waiver in the Public Interest for Indian Tribes,” approved on July 14, 2023, and effective until July 13, 2024, Tribal applicants will not be subject to the requirements of BABAA described in this notice.

I. Other Information

1. Paperwork Reduction Act. In accordance with the Paperwork Reduction Act of 1995 (44 U.S.C. chapter 35), the information collection requirements associated with the programs, as covered in this notice, have been approved by the Office of Management and Budget (OMB) under OMB Control Number 0570-0070.

2. National Environmental Policy Act. All recipients under this notice are subject to the requirements of 7 CFR part 1970. RBCS will review each grant application to determine its compliance with 7 CFR part 1970. The applicant may be asked to provide additional information or documentation to assist RBCS with this determination.

3. Federal Funding Accountability and Transparency Act. All applicants, in accordance with 2 CFR part 25, must be registered in SAM and have a UEI number as stated in Section D.3 of this notice. All recipients of Federal financial assistance are required to report information about first-tier sub-awards and executive total compensation in accordance with 2 CFR part 170.

4. Civil Rights Act. All grants made under this notice are subject to Title VI of the Civil Rights Act of 1964 as required by the USDA (7 CFR part 15, subpart A—Nondiscrimination in Federally-Assisted Programs of the Department of Agriculture—Effectuation of Title VI of the Civil Rights Act of 1964) and Section 504 of the Rehabilitation Act of 1973, title VIII of the Civil Rights Act of 1968, title IX, Executive Order 13166 (Limited English Proficiency), Executive Order 11246, and the Equal Credit Opportunity Act of 1974.

5. Nondiscrimination Statement. In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, staff office or the 711 Relay Service.

To file a program discrimination complaint, a complainant should complete a Form AD-3027, USDA Program Discrimination Complaint Form, which can be obtained online at https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Karama Neal,
Administrator, Rural Business-Cooperative Service, USDA Rural Development.

[FR Doc. 2023-26562 Filed 12-1-23; 8:45 am]

BILLING CODE 3410-XY-P